ENVIRONMENTAL PROTECTION AGENCY

[EPA-HQ-OECA-2014-0085; FRL—9918-70-OEI]

Information Collection Request Submitted to OMB for Review and Approval; Comment Request; NESHAP for Friction Materials Manufacture (Renewal)

AGENCY: Environmental Protection Agency (EPA).

ACTION: Notice.

SUMMARY: The Environmental Protection Agency has submitted an information collection request (ICR), “NESHAP for Friction Materials Manufacture (40 CFR part 63, subpart QQQQQ) (Renewal)” (EPA ICR No. 2025.06, OMB Control No. 2060-0481) to the Office of Management and Budget (OMB) for review and approval in accordance with the Paperwork Reduction Act (44 U.S.C. 3501 et seq). This is a proposed extension of the ICR, which is currently approved through January 31, 2015. Public comments were previously requested via the Federal Register (79 FR 30117) on May 27, 2014 during a 60-day comment period. This notice allows for an additional 30 days for public comments. A fuller description of the ICR is given below, including its estimated burden and cost to the public. An Agency may not conduct or sponsor, and a person is not required to respond to, a collection of information unless it displays a currently valid OMB control number.

DATES: Additional comments may be submitted on or before January 21, 2015.

ADDRESSES: Submit your comments, referencing Docket ID Number EPA HQ-OECA-2014-0085, to (1) EPA online using www.regulations.gov (our preferred method), or by email to docket.oeca@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW., Washington, DC 20460; telephone number: (202) 564-2970; fax number: (202) 564-0050; email address: yellin.patrick@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit: http://www.epa.gov/dockets.

Abstract: Respondents are owners or operators of friction materials manufacturing facilities. The NESHAP contains an emission limitation for solvent mixers at friction materials manufacturing facilities. Solvent mixers are the affected source. Friction materials manufacturing facilities manufacture friction material using a solvent-based process. Friction material is subsequently used to manufacture friction products that include, but are not limited to, disc brake pucks, disc brake pads, brake linings, brake shoes, brake segments, brake blocks, brake discs, clutch facings, and clutches.

Form Numbers: None.

Respondents/affected entities: Owners or operators of friction materials manufacturing facilities.

Respondent's obligation to respond: Mandatory (40 CFR part 63, subpart QQQQQ).

Estimated number of respondents: 4 (total).

Frequency of response: Initially, occasionally, semiannually, and annually.

Total estimated burden: 1,291 hours (per year). Burden is defined at 5 CFR 1320.3(b).

Total estimated cost: $127,502 (per year), includes $1,088 in annualized capital and/or operation & maintenance costs.

Changes in the Estimates: There is a decrease of five hours in the total estimated respondent burden compared with the ICR currently approved by the OMB. This decrease is due to a discrepancy identified in the previous ICR. The previous ICR assumed all existing plants transmit one-time notifications, a burden item that only applies to new sources. Since no new sources are expected over the next three-year period of the ICR, the ICR was revised to remove this burden, which resulted in a decrease in burden hours.

There is also an increase in the estimated burden cost due to the use of updated labor rates. This ICR references the most recent labor rates available from the Bureau of Labor Statistics and the OPM to calculate burden costs.

Courtney Kerwin,
Acting Director, Collection Strategies Division.

[FR Doc. 2014-29792 Filed 12-19-14; 8:45 am]

BILLING CODE 6560-50-P